DEPARTMENT OF COMMERCE

National Oceanic and Atmospheric Administration

[RTID 0648-XE707]

Marine Mammals; File No. 27514-02

AGENCY: National Marine Fisheries Service (NMFS), National Oceanic and Atmospheric Administration (NOAA), Commerce.

ACTION: Notice; issuance of permit amendment.

SUMMARY: Notice is hereby given that a major amendment to Permit No. 27514-01 has been issued to Heather E. Liwanag, Ph.D., California Polytechnic State University, 1 Grand Avenue, San Luis Obispo, CA 93407-0401.

ADDRESSES: The permit amendment and related documents are available for review upon written request via email to NMFS.Pr1Comments@noaa.gov.

FOR FURTHER INFORMATION CONTACT: Jennifer Skidmore or Sara Young, (301) 427-8401.

SUPPLEMENTARY INFORMATION: On January 10, 2025, notice was published in the Federal Register (90 FR 1965) that a request for an amendment to Permit No. 27514-01 had been submitted by the above-named applicant. This permit authorizes research on northern elephant seals (Mirounga angustirostris) in California. The requested permit amendment has been issued under the authority of the Marine Mammal Protection Act of 1972, as amended (16 U.S.C. 1361 et seq.), the regulations governing the taking and importing of marine mammals (50 CFR part 216), and the Fur Seal Act of 1966, as amended (16 U.S.C. 1151 et seq.).

Permit No. 27514, issued on March 21, 2024 (89 FR 27418, April 17, 2024), authorizes the permit holder to conduct research on northern elephant seals (Mirounga angustirostris) in California, including unintentional harassment of California sea lions (Zalophus californianus), harbor seals (Phoca vitulina), and northern fur seals (Callorhinus ursinus). This permit (27514-01) was amended on July 11, 2024, increasing the unintentional harassment for California sea lions and northern fur seals. This permit amendment (27514-02) increases the number of northern elephant seals that may be taken during the thermography study and updates to the acoustic conditions associated with the 2024 NMFS Technical Guidance. In addition, this amendment authorizes the opportunistic collection of molt for the thermography study and clarifies the number of animals that may be taken in Appendix A of the permit.

In compliance with the National Environmental Policy Act of 1969 (42 U.S.C. 4321 et seq.), a final determination has been made that the activity proposed is categorically excluded from the requirement to prepare an environmental assessment or environmental impact statement.

Dated: March 27, 2025.
Julia M. Harrison,
Chief, Permits and Conservation Division, Office of Protected Resources, National Marine Fisheries Service.

[FR Doc. 2025-05546 Filed 3-31-25; 8:45 am]

BILLING CODE 3510-22-P